DEPARTMENT OF HOMELAND SECURITY

Coast Guard

33 CFR Part 165

[Docket No. USCG-2019-0625]

Safety Zones; Recurring Safety Zones in Captain of the Port Sault Sainte Marie Zone for Events Beginning in Late July 2019

AGENCY: Coast Guard, DHS.

ACTION: Notice of enforcement of regulation.

SUMMARY: The Coast Guard will enforce established safety zones for maritime events starting in late July 2019 to provide for the safety of life on navigable waterways. Our regulation for safety zones within the Captain of the Port Sault Sainte Marie Zone identifies the regulated area for these safety zones. During the enforcement periods, vessels must stay out of the established safety zone and may only enter with permission from the designated representative of the Captain of the Port Sault Sainte Marie.

DATES: The regulations in 33 CFR 165.918 will be enforced for the safety zones identified in Table 1 of the SUPPLEMENTARY INFORMATION section of this document for the dates and times specified.

FOR FURTHER INFORMATION CONTACT: If you have questions about this publication, call or email LT Sean Murphy, Waterways Management, Coast Guard Sector Sault Sainte Marie, U.S. Coast Guard; telephone 906-635-3223, email Sean.V.Murphy@uscg.mil.

SUPPLEMENTARY INFORMATION: The Coast Guard will enforce the safety zones in 33 CFR 165.918 as per the time, dates, and locations in Table 1.

Table 1
[Datum NAD 1983]
Event | Location | Event date
(1) Charlevoix Venetian Festival Friday Night Fireworks; Charlevoix, MI | All U.S. navigable waters of Lake Charlevoix, in the vicinity of Depot Beach, within the arc of a circle with an approximate 1200-foot radius from the fireworks launch site located on a barge in position 45°19′08″ N, 085°14′18″ W | July 26, 2019 from 9:30 p.m. to 11 p.m.
(2) Charlevoix Venetian Saturday Night Fireworks; Charlevoix, MI | All U.S. navigable waters of Round Lake within the arc of a circle with an approximate 250-foot radius from the fireworks launch site located on a barge in position 45°19′03″ N, 085°15′18″ W | July 27, 2019 from 9:30 p.m. to 11 p.m.
(3) Elk Rapids Harbor Days Fireworks; Elk Rapids, MI | All U.S. navigable waters within the arc of a circle with an approximate 350-foot radius from the fireworks launch site located on a barge in position 44°54′6.95″ N, 85°25′3.11″ W | August 3, 2019 from 9:30 p.m. to 10:30 p.m.
(4) Nautical City Fireworks; Rogers City | All U.S. navigable waters within the arc of a circle with an approximate 560-foot radius from the fireworks launch site located near Harbor View Road in position 45°25′04.72″ N, 83°47′51.21″ W | August 4, 2019 from 9:30 p.m. to 10:30 p.m. Rain date August 11, 2019 from 9:30 p.m. to 10:30 p.m.

This action is being taken to provide for the safety of life on navigable waterways during the fireworks displays. The regulations for safety zones within the Captain of the Port Sault Sainte Marie Zone, § 165.918, apply for these fireworks displays.

This notice of enforcement is issued under authority of 33 CFR 165.918 and 5 U.S.C. 552(a). In addition to this notice of enforcement in the Federal Register, the Coast Guard will provide the maritime community with advance notification of this enforcement period via Broadcast Notice to Mariners or Local Notice to Mariners. If the Captain of the Port Sault Sainte Marie determines that the safety zone need not be enforced for the full duration stated in this notice of enforcement he or she may use a Broadcast Notice to Mariners to grant general permission to enter the respective safety zone.

Dated: July 22, 2019.
P.S. Nelson,
Captain, U.S. Coast Guard, Captain of the Port Sault Sainte Marie.

[FR Doc. 2019-15789 Filed 7-24-19; 8:45 am]

BILLING CODE 9110-04-P